INTERNATIONAL TRADE COMMISSION

[Investigation No. 337-TA-603]

In the Matter of: Certain DVD Players and Recorders and Certain Products Containing Same; Notice of Commission Issuance of a Limited Exclusion Order Against the Infringing Products of Respondents Found in Default; Termination of Investigation

AGENCY: U.S. International Trade Commission.

ACTION: Notice.

SUMMARY: Notice is hereby given that the U.S. International Trade Commission has issued a limited exclusion order against the infringing products of Dongguan GVG Digital Products Ltd. and GVG Digital Technology Holdings Ltd. (collectively, the “GVG respondents”), who were previously found in default, and has terminated the above-captioned investigation under section 337 of the Tariff Act of 1930, as amended, 19 U.S.C. 1337 (“section 337”).

FOR FURTHER INFORMATION CONTACT: Paul M. Bartkowski, Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on May 8, 2007, based on a complaint filed by Toshiba Corporation of Tokyo, Japan and Toshiba America Consumer Products, L.L.C., of Wayne, New Jersey (collectively, “Toshiba”). The complaint, as supplemented, alleges violations of section 337 of the Tariff Act of 1930 (19 U.S.C. 1337) in the importation into the United States, the sale for importation, and the sale within the United States after importation of certain DVD players and recorders and certain products containing the same by reason of infringement of certain claims of U.S. Patent Nos.: 5,587,991; 5,870,523; and 5,956,306. The complaint named over a dozen respondents, including the GVG respondents.

On June 25, 2007, Toshiba filed a motion for an order to show cause and for subsequent default judgment against the GVG respondents. On July 10, 2007, the ALJ issued an order requiring the GVG respondents to show cause by July 24, 2007, why they should not be found in default. No response to the show-cause order was received from either of the GVG respondents. Subsequently, the GVG respondents were found in default. All other respondents have been terminated from this investigation. Accordingly, the Commission requested briefing from interested parties and the public on remedy, the public interest, and bonding.

The Commission investigative attorney and Toshiba submitted briefing responsive to the Commission's request on January 4, 2008, and each proposed a limited exclusion order directed to the GVG respondents' accused products, and recommended allowing entry under bond of 100 percent of entered value during the period of Presidential review.

The Commission found that each of the statutory requirements of section 337(g)(1)(A)-(E), 19 U.S.C. 1337(g)(1)(A)-(E), has been met with respect to the defaulting respondents. Accordingly, pursuant to section 337(g)(1), 19 U.S.C. 1337(g)(1), and Commission rule 210.16(c), 19 CFR 210.16(c), the Commission presumed the facts alleged in the complaint to be true.

The Commission determined that the appropriate form of relief in this investigation is a limited exclusion order prohibiting the unlicensed entry of certain DVD players and recorders and products containing same by reason of infringement of claims 6 and 7 of U.S. Patent No. 5,587,991, claim 31 of U.S. Patent No. 5,870,523, and claim 4 of U.S. Patent No. 5,956,306, and that are manufactured abroad by or on behalf of, or imported by or on behalf of, the GVG respondents. The Commission further determined that the public interest factors enumerated in section 337(g)(1), 19 U.S.C. 1337(g)(1), do not preclude issuance of the limited exclusion order. Finally, the Commission determined that the bond under the limited exclusion order during the Presidential review period shall be in the amount of 100 percent of the entered value of the imported articles. The Commission's order was delivered to the President and the United States Trade Representative on the day of its issuance.

The Commission has terminated this investigation. The authority for the Commission's determination is contained in section 337 of the Tariff Act of 1930, as amended (19 U.S.C. 1337), and sections 210.16(c) and 210.41 of the Commission's Rules of Practice and Procedure (19 CFR 210.16(c) and § 210.41).

Issued: February 15, 2008.
By order of the Commission.
Marilyn R. Abbott,
Secretary to the Commission.

[FR Doc. E8-3205 Filed 2-20-08; 8:45 am]

BILLING CODE 7020-02-P